ENVIRONMENTAL PROTECTION AGENCY

40 CFR Parts 60, 61, and 63

[EPA-R07-OAR-2015-0016; FRL-9923-69-Region-7]

Delegation of Authority to the States of Iowa; Kansas; Missouri; Nebraska; Lincoln-Lancaster County, NE; and City of Omaha, NE., for New Source Performance Standards (NSPS), National Emission Standards for Hazardous Air Pollutants (NESHAP) Including Maximum Achievable Control Technology (MACT) Standards

AGENCY: Environmental Protection Agency (EPA).

ACTION: Delegation of authority.

SUMMARY: The States of Iowa, Kansas, Missouri, and Nebraska and the local agencies of Lincoln-Lancaster County, Nebraska, and the city of Omaha, Nebraska, have submitted updated regulations for delegation of EPA authority for implementation and enforcement of NSPS, NESHAP, and MACT standards. The submissions cover new EPA standards and, in some instances, revisions to standards previously delegated. EPA's review of the pertinent regulations shows that they contain adequate and effective procedures for the implementation and enforcement of these Federal standards. This action informs the public of delegations to the above-mentioned agencies.

DATES: This document is effective on February 27, 2015. The dates of delegation can be found in the SUPPLEMENTARY INFORMATION section of this document.

ADDRESSES: Copies of documents relative to this action are available for public inspection during normal business hours at the Environmental Protection Agency, Air Planning and Development Branch, 11201 Renner Road, Lenexa, Kansas 66219. The interested persons wanting to examine these documents should make an appointment with the office at least 24 hours in advance.

Effective immediately, all notifications, applications, reports, and other correspondence required pursuant to the newly delegated standards and revisions identified in this document must be submitted with respect to sources located in the jurisdictions identified in this document, to the following addresses:

Iowa Department of Natural Resources, Air Quality Bureau, 7900 Hickman Road, Suite 1, Windsor Heights, Iowa 50324.

Kansas Department of Health and the Environment, Bureau of Air, 1000 SW Jackson Street, Suite 310, Topeka, Kansas 66612-1367.

Missouri Department of Natural Resources, Air Pollution Control Program, PO Box 176, Jefferson City, Missouri 65102-0176.

Nebraska Department of Environmental Quality, Air Quality Division, 1200 “N” Street, Suite 400, P.O. Box 98922, Lincoln, Nebraska 68509.

Lincoln-Lancaster County Health Department, Division of Environmental Public Health, Air Quality Section, 3140 “N” Street, Lincoln, Nebraska 68510.

City of Omaha, Public Works Department, Air Quality Control Division, 5600 South 10th Street, Omaha, Nebraska 68107.

Duplicates of required documents must also continue to be submitted to the EPA Regional Office at the above address.

FOR FURTHER INFORMATION CONTACT: Ms. Paula Higbee at (913) 551-7028, or by email at higbee.paula@epa.gov.

SUPPLEMENTARY INFORMATION: The supplementary information is organized in the following order:

I. What does this action do?

II. What is the authority for delegation?

III. What does delegation accomplish?

IV. What has been delegated?

V. What has not been delegated?

List of Delegation Tables

Table I—NSPS, 40 CFR part 60

Table II—NESHAP, 40 CFR part 61

Table III—NESHAP, 40 CFR part 63

I. What does this action do?

EPA is providing notice of an update to its delegable authority for implementation and enforcement of the Federal standards shown in the tables below to the states of Iowa, Kansas, Missouri, and Nebraska. This action updates the delegation tables previously published at 78 FR 71510 (November 29, 2013). EPA has established procedures by which these agencies are automatically delegated the authority to implement the standards when they adopt regulations which are identical to the Federal standards. We then periodically provide notice of the new and revised standards for which delegation has been given. This document does not affect or alter the status of the listed standards under state or Federal law.

II. What is the authority for delegation?

1. Section 111(c)(1) of the Clean Air Act (CAA) authorizes EPA to delegate authority to any state agency which submits adequate regulatory procedures for implementation and enforcement of the NSPS program. The NSPS are codified at 40 CFR part 60.

2. Section 112(l) of the CAA and 40 CFR part 63, subpart E, authorizes EPA to delegate authority to any state or local agency which submits adequate regulatory procedures for implementation and enforcement of emission standards for hazardous air pollutants. The hazardous air pollutant standards are codified at 40 CFR parts 61 and 63, respectively.

III. What does delegation accomplish?

Delegation confers primary responsibility for implementation and enforcement of the listed standards to the respective state and local air agencies. However, EPA also retains the concurrent authority to enforce the standards.

IV. What has been delegated?

Tables I, II, and III below list the delegated standards. Each item listed in the Subpart column has two relevant dates listed in each column for each state. The first date in each block is the reference date to the CFR contained in the state rule. In general, the state or local agency has adopted the applicable standard through the date as noted in the table. The second date is the most recent effective date of the state agency rule for which the EPA has granted the delegation. This document specifically addresses revisions to the columns for Iowa, Kansas, Missouri, and Nebraska and the local agencies of Lincoln-Lancaster County, Nebraska, and the city of Omaha, Nebraska. If there are no dates listed in the delegation table, the state has not accepted delegation of the standard and implementation of those standards reside with EPA.

V. What has not been delegated?

1. The EPA regulations effective after the first date specified in each block have not been delegated, and authority for implementation of these regulations is retained solely by EPA.

2. In some cases, the standards themselves specify that specific provisions cannot be delegated. In such cases, a specific section of the standard details what authorities can and cannot be delegated. You should review the applicable standard in the CFR for this information.

3. In some cases, the state rules do not adopt the Federal standard in its entirety. Each state rule (available from the respective agency) should be consulted for specific information.

4. In some cases, existing delegation agreements between the EPA and the agencies limit the scope of the delegated standards. Copies of delegation agreements are available from the state agencies, or from this office.

5. With respect to 40 CFR part 63, subpart A, General Provisions (see Table III), EPA has determined that sections 63.6(g), 63.6(h)(9), 63.7(e)(2)(ii) and (f), 63.8(f), and 63.10(f) cannot be delegated. Additional information is contained in an EPA memorandum titled “Delegation of 40 CFR part 63 General Provisions Authorities to State and Local Air Pollution Control Agencies” from John Seitz, Director, Office of Air Quality Planning and Standards, dated July 10, 1998.

List of Delegation Tables

Table I—Delegation of Authority—Part 60 NSPS—Region 7
Sub-Part | Source category | State of Iowa | State of Kansas | State of Missouri | State of Nebraska
A | General Provisions | 06/28/11 10/24/12 | 07/01/08 11/05/10 Except 60.4; 60.9; 60.10; 60.16. | 6/30/12 12/30/13 Except 60.4; 60.9; and 60.10. | 07/01/13. 05/13/14.
D | Fossil-Fuel Fired Steam Generators for Which Construction is Commenced After August 17, 1971 | 06/28/11 10/24/12 | 07/01/08 11/05/10 | 6/30/12 12/30/13 | 07/01/13. 05/13/14.
Da | Electric Utility Steam Generating Units for Which Construction is Commenced After September 18, 1978 | 06/28/11 10/24/12 | 07/01/08 11/05/10 | 6/30/12 12/30/13 | 07/01/13. 05/13/14.
Db | Industrial-Commercial-Institutional Steam Generating Units | 06/28/11 10/24/12 | 07/01/08 11/05/10 | 6/30/12 12/30/13 | 07/01/13. 05/13/14.
Dc | Small Industrial-Commercial-Institutional Steam Generating Units | 06/28/11 10/24/12 | 07/01/08 11/05/10 | 6/30/12 12/30/13 | 07/01/13. 05/13/14.
E | Incinerators | 06/28/11 10/24/12 | 07/01/08 11/05/10 | 6/30/12 12/30/13 | 07/01/13. 05/13/14.
Ea | Municipal Waste Combustors for Which Construction is Commenced After December 20, 1989, and on or before September 20 1994 | 06/28/11 10/24/12 | 07/01/08 11/05/10 | 6/30/12 12/30/13 | 07/01/13. 05/13/14.
Eb | Large Municipal Waste Combustors for Which Construction is Commenced after September 20, 1994, or for Which Modification or Reconstruction is Commenced After June 19, 1996 | 06/28/11 10/24/12 | 07/01/08 11/05/10 | 6/30/12 12/30/13 | 07/01/13. 05/13/14.
Ec | Hospital/Medical/Infectious Waste Incinerators for Which Construction Commenced after June 20, 1996 | 06/28/11 10/24/12 | 07/01/08 11/05/10 | 6/30/12 12/30/13 | 07/01/13. 05/13/14.
F | Portland Cement Plants | 10/17/00 10/21/12 | 07/01/08 11/05/10 | 6/30/12 12/30/13 | 07/01/13. 05/13/14.
G | Nitric Acid Plants | 06/28/11 10/24/12 | 07/01/08 11/05/10 | 6/30/12 12/30/13 | 07/01/13. 05/13/14.
Ga | Nitric Acid Plants for Which Construction, Reconstruction, or Modification Commenced After October 14, 2011 |  |  | 6/30/12 12/30/13 | 07/01/13. 05/13/14.
H | Sulfuric Acid Plants | 06/28/11 10/24/12 | 07/01/08 11/05/10 | 6/30/12 12/30/13 | 07/01/13. 05/13/14.
I | Hot Mix Asphalt Facilities | 06/28/11 10/24/12 | 07/01/08 11/05/10 | 6/30/12 12/30/13 | 07/01/13. 05/13/14.
J | Petroleum Refineries | 06/28/11 10/24/12 | 07/01/08 11/05/10 Except provisions in Ja: 60.100a(c); in 60.101a, the definition of “flare”; 60.102a(g); and 60.107a(d) and (e). | 6/30/12 12/30/13 | 07/01/13. 05/13/14.
Ja | Standards of Performance for Petroleum Refineries for Which Construction, Reconstruction, or Modification Commenced After May 14, 2007 |  |  | 6/30/12 12/30/13 | 07/01/13. 05/13/14.
K | Storage Vessels for Petroleum Liquids for Which Construction, Reconstruction, or Modification Commenced After June 11, 1973, and Prior to May 19, 1978 | 06/28/11 10/24/12 | 07/01/08 11/05/10 | 6/30/12 12/30/13 | 07/01/13. 05/13/14.
Ka | Storage Vessels for Petroleum Liquids for Which Construction, Reconstruction, or Modification Commenced After May 18, 1978, and Prior to July 23, 1984 | 06/28/11 10/24/12 | 07/01/08 11/05/10 | 6/30/12 12/30/13 | 07/01/13. 05/13/14.
Kb | Volatile Organic Liquid Storage Vessels (including Petroleum Liquid Storage Vessels) for Which Construction, Reconstruction, or Modification Commenced After July 23, 1984 | 06/28/11 10/24/12 | 07/01/08 11/05/10 | 6/30/12 12/30/13 | 07/01/13. 05/13/14.
L | Secondary Lead Smelters | 06/28/11 10/24/12 | 07/01/08 11/05/10 | 6/30/12 12/30/13 | 07/01/13. 05/13/14.
M | Secondary Brass and Bronze Production Plants | 06/28/11 10/24/12 | 07/01/08 11/05/10 | 6/30/12 12/30/13 | 07/01/13. 05/13/14.
N | Basic Oxygen Process Furnaces for Which Construction is Commenced After June 11, 1973 | 06/28/11 10/24/12 | 07/01/08 11/05/10 | 6/30/12 12/30/13 | 07/01/13. 05/13/14.
Na | Basic Oxygen Process Steelmaking Facilities for Which Construction is Commenced After January 20, 1983 | 06/28/11 10/24/12 | 07/01/08 11/05/10 | 6/30/12 12/30/13 | 07/01/13. 05/13/14.
O | Sewage Treatment Plants | 06/28/11 10/24/12 | 07/01/08 11/05/10 | 6/30/12 12/30/13 | 07/01/13. 05/13/14.
P | Primary Copper Smelters | 06/28/11 10/24/12 | 07/01/08 11/05/10 | 6/30/12 12/30/13 | 07/01/13. 05/13/14.
Q | Primary Zinc Smelters | 06/28/11 10/24/12 | 07/01/08 11/05/10 | 6/30/12 12/30/13 | 07/01/13. 05/13/14.
R | Primary Lead Smelters | 06/28/11 10/24/12 | 07/01/08 11/05/10 | 6/30/12 12/30/13 | 07/01/13. 05/13/14.
S | Primary Aluminum Reduction Plants | 06/28/11 10/24/12 | 07/01/08 11/05/10 | 6/30/12 12/30/13 | 07/01/13. 05/13/14.
T | Phosphate Fertilizer Industry: Wet Process Phosphoric Acid Plants | 06/28/11 10/24/12 | 07/01/08 11/05/10 | 6/30/12 12/30/13 | 07/01/13. 05/13/14.
U | Phosphate Fertilizer Industry: Superphosphoric Acid Plants | 06/28/11 10/24/12 | 07/01/08 11/05/10 | 6/30/12 12/30/13 | 07/01/13. 05/13/14.
V | Phosphate Fertilizer Industry: Diammonium Phosphate Plants | 06/28/11 10/24/12 | 07/01/08 11/05/10 | 6/30/12 12/30/13 | 07/01/13. 05/13/14.
W | Phosphate Fertilizer Industry: Triple Superphosphate Plants | 06/28/11 10/24/12 | 07/01/08 11/05/10 | 6/30/12 12/30/13 | 07/01/13. 05/13/14.
X | Phosphate Fertilizer Industry: Granular Triple Superphosphate Storage Facilities | 06/28/11 10/24/12 | 07/01/08 11/05/10 | 6/30/12 12/30/13 | 07/01/13. 05/13/14.
Y | Coal Preparation Plants | 06/28/11 10/24/12 | 07/01/08 11/05/10 | 6/30/12 12/30/13 | 07/01/13. 05/13/14.
Z | Ferroalloy Production Facilities | 06/28/11 10/24/12 | 07/01/08 11/05/10 | 6/30/12 12/30/13 | 07/01/13. 05/13/14.
AA | Steel Plants: Electric Arc Furnaces Constructed After October 21, 1974, and on or Before August 17, 1983 | 06/28/11 10/24/12 | 07/01/08 11/05/10 | 6/30/12 12/30/13 | 07/01/13. 05/13/14.
AAa | Steel Plants: Electric Arc Furnaces and Argon-Oxygen Decarburization Vessels Constructed After August 17, 1983 | 06/28/11 10/24/12 | 07/01/08 11/05/10 | 6/30/12 12/30/13 | 07/01/13. 05/13/14.
BB | Kraft Pulp Mills | 06/28/11 10/24/12 | 07/01/08 11/05/10 | 6/30/12 12/30/13 | 07/01/13. 05/13/14.
CC | Glass Manufacturing Plants | 06/28/11 10/24/12 | 07/01/08 11/05/10 | 6/30/12 12/30/13 | 07/01/13. 05/13/14.
DD | Grain Elevators | 06/28/11 10/24/12 | 07/01/08 11/05/10 | 6/30/12 12/30/13 | 07/01/13. 05/13/14.
EE | Surface Coating of Metal Furniture | 06/28/11 10/24/12 | 07/01/08 11/05/10 | 6/30/12 12/30/13 | 07/01/13. 05/13/14.
GG | Stationary Gas Turbines | 06/28/11 10/24/12 | 07/01/08 11/05/10 | 6/30/12 12/30/13 | 07/01/13. 05/13/14.
HH | Lime Manufacturing Plants | 06/28/11 10/24/12 | 07/01/08 11/05/10 | 6/30/12 12/30/13 | 07/01/13. 05/13/14.
KK | Lead-Acid Battery Manufacturing Plants | 06/28/11 10/24/12 | 07/01/08 11/05/10 | 6/30/12 12/30/13 | 07/01/13. 05/13/14.
LL | Metallic Mineral Processing Plants | 06/28/11 10/24/12 | 07/01/08 11/05/10 | 6/30/12 12/30/13 | 07/01/13. 05/13/14.
MM | Automobile and Light Duty Truck Surface Coating Operations | 06/28/11 10/24/12 | 07/01/08 11/05/10 | 6/30/12 12/30/13 | 07/01/13. 05/13/14.
NN | Phosphate Rock Plants | 06/28/11 10/24/12 | 07/01/08 11/05/10 | 6/30/12 12/30/13 | 07/01/13. 05/13/14.
PP | Ammonium Sulfate Manufacture | 06/28/11 10/24/12 | 07/01/08 11/05/10 | 6/30/12 12/30/13 | 07/01/13. 05/13/14.
QQ | Graphic Arts Industry: Publication Rotogravure Printing | 06/28/11 10/24/12 | 07/01/08 11/05/10 | 6/30/12 12/30/13 | 07/01/13. 05/13/14.
RR | Pressure Sensitive Tape and Label Surface Coating Operations | 06/28/11 10/24/12 | 07/01/08 11/05/10 | 6/30/12 12/30/13 | 07/01/13. 05/13/14.
SS | Industrial Surface Coating: Large Appliances | 06/28/11 10/24/12 | 07/01/08 11/05/10 | 6/30/12 12/30/13 | 07/01/13. 05/13/14.
TT | Metal Coil Surface Coating | 06/28/11 10/24/12 | 07/01/08 11/05/10 | 6/30/12 12/30/13 | 07/01/13. 05/13/14.
UU | Asphalt Processing and Asphalt Roofing Manufacture | 06/28/11 10/24/12 | 07/01/08 11/05/10 | 6/30/12 12/30/13 | 07/01/13. 05/13/14.
VV | Equipment Leaks of VOC in the Synthetic Organic Chemicals Manufacturing Industry | 06/28/11 10/24/12 | 07/01/08 11/05/10 | 6/30/12 12/30/13 | 07/01/13. 05/13/14.
VVa | Equipment Leaks of VOC in the Synthetic Organic Chemicals Manufacturing Industry for Which Construction, Reconstruction, or Modification Commenced After November 7, 2006 |  |  | 6/30/12 12/30/13 | 07/01/13. 05/13/14.
WW | Beverage Can Surface Coating Industry | 06/28/11 10/24/12 | 07/01/08 11/05/10 | 6/30/12 12/30/13 | 07/01/13. 05/13/14.
XX | Bulk Gasoline Terminals | 06/28/11 10/24/12 | 07/01/08 11/05/10 | 6/30/12 12/30/13 | 07/01/13. 05/13/14.
AAA | New Residential Wood Heaters |  | 07/01/08 11/05/10 | 6/30/12 12/30/13 | 07/01/13. 05/13/14.
BBB | Rubber Tire Manufacturing Industry | 06/28/11 10/24/12 | 07/01/08 11/05/10 | 6/30/12 12/30/13 | 07/01/13. 05/13/14.
DDD | Volatile Organic Compound (VOC) Emissions from the Polymer Manufacturing Industry | 06/28/11 10/24/12 | 07/01/08 11/05/10 | 6/30/12 12/30/13 | 07/01/13. 05/13/14.
FFF | Flexible Vinyl and Urethane Coating and Printing | 06/28/11 10/24/12 | 07/01/08 11/05/10 | 6/30/12 12/30/13 | 07/01/13. 05/13/14.
GGG | Equipment Leaks of VOC in Petroleum Refineries | 06/28/11 10/24/12 | 07/01/08 11/05/10 | 6/30/12 12/30/13 | 07/01/13. 05/13/14.
GGGa | Equipment Leaks of VOC in Petroleum Refineries for Which Construction, Reconstruction, or Modification Commenced After November 7, 2006 |  |  | 6/30/12 12/30/13 | 07/01/13. 05/13/14.
HHH | Synthetic Fiber Production Facilities | 06/28/11 10/24/12 | 07/01/08 11/05/10 | 6/30/12 12/30/13 | 07/01/13. 05/13/14.
III | Volatile Organic Compound (VOC) Emissions From the Synthetic Organic Chemical Manufacturing Industry (SOCMI) AIR Oxidation Unit Processes | 06/28/11 10/24/12 | 07/01/08 11/05/10 | 6/30/12 12/30/13 | 07/01/13. 05/13/14.
JJJ | Petroleum Dry Cleaners | 06/28/11 10/24/12 | 07/01/08 11/05/10 | 6/30/12 12/30/13 | 07/01/13. 05/13/14.
KKK | Equipment Leaks of VOC from Onshore Natural Gas Processing Plants | 06/28/11 10/24/12 | 07/01/08 11/05/10 | 6/30/12 12/30/13 | 07/01/13. 05/13/14.
LLL | Onshore Natural Gas Processing: SO2 Emissions | 06/28/11 10/24/12 | 07/01/08 11/05/10 | 6/30/12 12/30/13 | 07/01/13. 05/13/14.
NNN | Volatile Organic Compound (VOC) Emissions from Synthetic Organic Chemical Manufacturing Industry (SOCMI) Distillation Operations | 06/28/11 10/24/12 | 07/01/08 11/05/10 | 6/30/12 12/30/13 | 07/01/13. 05/13/14.
OOO | Nonmetallic Mineral Processing Plants | 06/28/11 10/24/12 | 07/01/08 11/05/10 | 6/30/12 12/30/13 | 07/01/13. 05/13/14.
PPP | Wool Fiberglass Insulation Manufacturing Plants | 06/28/11 10/24/12 | 07/01/08 11/05/10 | 6/30/12 12/30/13 | 07/01/13. 05/13/14.
QQQ | VOC Emissions from Petroleum Refinery Wastewater Systems | 06/28/11 10/24/12 | 07/01/08 11/05/10 | 6/30/12 12/30/13 | 07/01/13. 05/13/14.
RRR | Volatile Organic Compound Emissions from Synthetic Organic Chemical Manufacturing Industry (SOCMI) Reactor Processes | 06/28/11 10/24/12 | 07/01/08 11/05/10 | 6/30/12 12/30/13 | 07/01/13. 05/13/14.
SSS | Magnetic Tape Coating Facilities | 06/28/11 10/24/12 | 07/01/08 11/05/10 | 6/30/12 12/30/13 | 07/01/13. 05/13/14.
TTT | Industrial Surface Coating: Surface Coating of Plastic Parts for Business Machines | 06/28/11 10/24/12 | 07/01/08 11/05/10 | 6/30/12 12/30/13 | 07/01/13. 05/13/14.
UUU | Calciners and Dryers in Mineral Industries | 06/28/11 10/24/12 | 07/01/08 11/05/10 | 6/30/12 12/30/13 | 07/01/13. 05/13/14.
VVV | Polymeric Coating of Supporting Substrates Facilities | 06/28/11 10/24/12 | 07/01/08 11/05/10 | 6/30/12 12/30/13 | 07/01/13. 05/13/14.
WWW | Municipal Solid Waste Landfills | 06/28/11 10/24/12 | 07/01/08 11/05/10 | 6/30/12 12/30/13 | 07/01/13. 05/13/14.
AAAA | Small Municipal Waste Combustion Units for Which Construction is Commenced After August 30, 1999 or for Which Modification or Reconstruction is Commenced After June 6, 2001 | 06/28/11 10/24/12 | 07/01/08 11/05/10 | 6/30/12 12/30/13 | 07/01/13. 05/13/14.
CCCC | Commercial and Industrial Solid Waste Incineration Units for Which Construction is Commenced After November 30, 1999 or for Which Modification or Reconstruction is Commenced on or After June 1, 2001 | 06/28/11 10/24/12 | 07/01/05 11/05/10 | 6/30/12 12/30/13 | 07/01/13. 05/13/14.
DDDD | Commercial and Industrial Solid Waste Incineration Units that Commenced Construction On or Before November 30, 1999 |  | 07/01/05 11/05/10 | Not delegated | 07/01/13. 05/13/14.
EEEE | Other Solid Waste Incineration Units for Which Construction Commenced After December 9, 2004 or Modification or Reconstruction Commenced On or After June 16, 2006 | 06/28/11 10/24/12 | 07/01/08 11/05/10 | 6/30/12 12/30/13 | 07/01/13. 05/13/14.
FFFF | Other Solid Waste Incineration Units that Commenced Construction On or Before December 9, 2004 |  | 07/01/08 11/05/10 | Not delegated | 07/01/13. 05/13/14.
IIII | Stationary Compression Ignition Internal Combustion Engines | 06/28/11 10/24/12 | 07/01/08 11/05/10 | 6/30/12 12/30/13 | 07/01/13. 05/13/14.
JJJJ | Stationary Spark Ignition Internal Combustion Engines | 06/28/11 10/24/12 | 07/01/08 11/05/10 | 6/30/12 12/30/13 | 07/01/13. 05/13/14.
KKKK | Stationary Combustion Turbines | 06/28/11 10/24/12 | 07/01/08 11/05/10 | 6/30/12 12/30/13 | 07/01/13. 05/13/14.
LLLL | New Sewage Sludge Incinerator Units |  |  | 6/30/12 12/30/13 | 07/01/13. 05/13/14.
MMMM | Emission Guidelines and Compliance Times for Existing Sewage Sludge Incineration Units |  |  |  | 07/01/13. 05/13/14.
OOOO | Crude Oil and Natural Gas Production, Transmission and Distribution |  |  | 6/30/12 12/30/13 | 07/01/13. 05/13/14.

Table II—Delegation of Authority—Part 61 NESHAP—Region 7
Sub-Part | Source category | State of Iowa | State of Kansas | State of Missouri | State of Nebraska | Lincoln- Lancaster County | City of Omaha
A | General Provisions | 9/19/11 10/24/12 | 07/01/10 12/28/12 Except 61.04, 61.16 and 61.17. | 6/30/12 12/30/13 Except 61.04, 61.16 and 61.17. | 07/01/01 07/21/10 | 07/01/13 12/10/13 | 07/01/09. 12/22/12.
B | Radon Emissions from Underground Uranium Mines | Not delegated | Not delegated | Not delegated | Not delegated | Not delegated | Not delegated.
C | Beryllium | 9/19/11 10/24/12 | 07/01/10 12/28/12 | 6/30/12 12/30/13 | 07/01/01 07/21/10 | 07/01/13 12/10/13 | 07/01/09. 12/22/12.
D | Beryllium Rocket Motor Firing | 9/19/11 10/24/12 | 07/01/10 12/28/12 | 6/30/12 12/30/13 | 07/01/01 07/21/10 | 07/01/13 12/10/13 | 07/01/09. 12/22/12.
E | Mercury | 9/19/11 10/24/12 | 07/01/10 12/28/12 | 6/30/12 12/30/13 | 07/01/01 07/21/10 | 07/01/13 12/10/13 | 07/01/09. 12/22/12.
F | Vinyl Chloride | 9/19/11 10/24/12 | 07/01/10 12/28/12 | 6/30/12 12/30/13 | 07/01/01 07/21/10 | 07/01/13 12/10/13 | 07/01/09. 12/22/12.
J | Equipment Leaks (Fugitive Emission Sources) of Benzene | 9/19/11 10/24/12 | 07/01/10 12/28/12 | 6/30/12 12/30/13 | 07/01/01 07/21/10 | 07/01/13 12/10/13 | 07/01/09. 12/22/12.
L | Benzene Emissions from Coke By-Product Recovery Plants | 9/19/11 10/24/12 | 07/01/10 12/28/12 | 6/30/12 12/30/13 | 07/01/01 07/21/10 | 07/01/13 12/10/13 | 07/01/09. 12/22/12.
M | Asbestos | 9/19/11 10/24/12 | 07/01/10 12/28/12 | 6/30/12 12/30/13 | 07/01/01 07/21/10 | 07/01/13 12/10/13 | 07/01/09. 12/22/12.
N | Inorganic Arsenic Emissions from Glass Manufacturing Plants | 9/19/11 10/24/12 | 07/01/10 12/28/12 | 6/30/12 12/30/13 | 07/01/01 07/21/10 | 07/01/13 12/10/13 | 07/01/09. 12/22/12.
O | Inorganic Arsenic Emissions From Primary Copper Smelters | 9/19/11 10/24/12 | 07/01/10 12/28/12 | 6/30/12 12/30/13 | 07/01/01 07/21/10 | 07/01/13 12/10/13 | 07/01/09. 12/22/12.
P | Inorganic Arsenic Emissions From Arsenic Trioxide and Metallic Arsenic Production Facilities | 9/19/11 10/24/12 | 07/01/10 12/28/12 | 6/30/12 12/30/13 | 07/01/01 07/21/10 | 07/01/13 12/10/13 | 07/01/09. 12/22/12.
Q | Radon Emissions From Department of Energy Facilities | Not delegated | Not delegated | Not delegated | Not delegated | Not delegated | Not delegated.
R | Radon Emissions From Phosphogypsum Stacks | Not delegated | Not delegated | Not delegated | Not delegated | Not delegated | Not delegated.
T | Radon Emissions From the Disposal of Uranium Mill Tailings | Not delegated | Not delegated | Not delegated | Not delegated | Not delegated | Not delegated.
V | Equipment Leaks (Fugitive Emission Sources) | 9/19/11 10/24/12 | 07/01/10 12/28/12 | 6/30/12 12/30/13 | 07/01/01 07/21/10 | 07/01/13 12/10/13 | 07/01/09. 12/22/12.
W | Radon Emissions From Operating Mill Tailings | Not delegated | Not delegated | Not delegated | Not delegated | Not delegated | Not delegated.
Y | Benzene Emissions From Benzene Storage Vessels | 9/19/11 10/24/12 | 07/01/10 12/28/12 | 6/30/12 12/30/13 | 07/01/01 07/21/10 | 07/01/13 12/10/13 | 07/01/09. 12/22/12.
BB | Benzene Emissions From Benzene Transfer Operations | 9/19/11 10/24/12 | 07/01/10 12/28/12 | 6/30/12 12/30/13 | 07/01/01 07/21/10 | 07/01/13 12/10/13 | 07/01/09. 12/22/12.
FF | Benzene Waste Operations | 9/19/11 10/24/12 | 07/01/10 12/28/12 | 6/30/12 12/30/13 | 07/01/01 07/21/10 | 07/01/13 12/10/13 | 07/01/09. 12/22/12.

Table III—Delegation of Authority—Part 63 NESHAP—Region 7
Sub-Part | Source category | State of Iowa | State of Kansas | State of Missouri | State of Nebraska | Lincoln- Lancaster County | City of Omaha
A | General Provisions | 9/19/11 10/24/12 | 07/01/10 12/28/12 Except 63.6(f)(1), (g), (h)(1) and (h)(9); 63.7(e)(2)(ii) and (f); 63.8(f); 63.10(f); 63.12; 63.13; 63.14(b)(27) and phrase “and table 5 to subpart DDDDD of this part”; 63.14(b)(35), (39) through (53), and (55) through (62); in 63.14(i)(1), the phrase “table 5 to subpart DDDDD of this part”; and 63.15. | 6/30/12 12/30/13 Except 63.13 & 63.15(a)(2). | 07/01/13 05/13/14 | 07/01/13 12/10/13 | 07/01/11. 12/22/12.
F | Organic Hazardous Air Pollutants From the Synthetic Organic Chemical Manufacturing Industry | 9/19/11 10/24/12 | 07/01/10 12/28/12 | 6/30/12 12/30/13 | 07/01/13 05/13/14 | 07/01/13 12/10/13 | 07/01/11. 12/22/12.
G | Organic Hazardous Air Pollutants From the Synthetic Organic Chemical Manufacturing Industry for Process Vents, Storage Vessels, Transfer Operations, and Wastewater | 9/19/11 10/24/12 | 07/01/10 12/28/12 | 6/30/12 12/30/13 | 07/01/13 05/13/14 | 07/01/13 12/10/13 | 07/01/11. 12/22/12.
H | Organic Hazardous Air Pollutants for Equipment Leaks | 9/19/11 10/24/12 | 07/01/10 12/28/12 | 6/30/12 12/30/13 | 07/01/13 05/13/14 | 07/01/13 12/10/13 | 07/01/11. 12/22/12.
I | Organic Hazardous Air Pollutants for Certain Processes Subject to the Negotiated Regulation for Equipment Leaks | 9/19/11 10/24/12 | 07/01/10 12/28/12 | 6/30/12 12/30/13 | 07/01/13 05/13/14 | 07/01/13 12/10/13 | 07/01/11. 12/22/12.
J | Polyvinyl Chloride and Copolymers Production | 9/19/11 10/24/12 | 07/01/10 12/28/12 | Not delegated | Not delegated | 07/01/13 12/10/13. | Not delegated.
L | Coke Oven Batteries | 9/19/11 10/24/12 | 07/01/10 12/28/12 | 6/30/12 12/30/13 | Not delegated | 07/01/13 12/10/13 | Not delegated.
M | National Perchloroethylene Air Emission Standards for Dry Cleaning Facilities | 9/19/11 10/24/12 | 07/01/10 12/28/12 | 6/30/12 12/30/13 | 07/01/13 05/13/14 | 07/01/13 12/10/13 | 07/01/11. 12/22/12.
N | Chromium Emissions From Hard and Decorative Chromium Electroplating and Chromium Anodizing Tanks | 9/19/11 10/24/12 | 07/01/10 12/28/12 | 6/30/12 12/30/13 | 07/01/13 05/13/14 | 07/01/13 12/10/13 | 07/01/11. 12/22/12.
O | Ethylene Oxide Emissions Standards for Sterilization Facilities | 9/19/11 10/24/12 | 07/01/10 12/28/12 | 6/30/12 12/30/13 | 07/01/13 05/13/14 | 07/01/13 12/10/13 | 07/01/11. 12/22/12.
Q | Industrial Process Cooling Towers | 9/19/11 10/24/12 | 07/01/10 12/28/12 | 6/30/12 12/30/13 | 07/01/13 05/13/14 | 07/01/13 12/10/13 | 07/01/11. 12/22/12.
R | Gasoline Distribution Facilities (Bulk Gasoline Terminals and Pipeline Breakout Stations) | 9/19/11 10/24/12 | 07/01/10 12/28/12 | 6/30/12 12/30/13 | 07/01/13 05/13/14 | 07/01/13 12/10/13 | 07/01/11. 12/22/12.
S | Pulp and Paper Industry | 9/19/11 10/24/12 | 07/01/10 12/28/12 | 6/30/12 12/30/13 | 07/01/13 05/13/14 | 07/01/13 12/10/13 | 07/01/11. 12/22/12.
T | Halogenated Solvent Cleaning | 9/19/11 10/24/12 | 07/01/10 12/28/12 | 6/30/12 12/30/13 | 07/01/13 05/13/14 | 07/01/13 12/10/13 | 07/01/11. 12/22/12.
U | Polymers and Resins Group I | 9/19/11 10/24/12 | 07/01/10 12/28/12 | 6/30/12 12/30/13 | 07/01/13 05/13/14 | 07/01/13 12/10/13 | 07/01/11. 12/22/12.
W | Epoxy Resins Production and Non-Nylon Polyamides Production | 9/19/11 10/24/12 | 07/01/10 12/28/12 | 6/30/12 12/30/13 | 07/01/13 05/13/14 | 07/01/13 12/10/13 | 07/01/11. 12/22/12.
X | Secondary Lead Smelting | 9/19/11 10/24/12 | 07/01/10 12/28/12 | 6/30/12 12/30/13 | 07/01/13 05/13/14 | 07/01/13 12/10/13 | 07/01/11. 12/22/12.
Y | Marine Tank Vessel Loading Operations | 9/19/11 10/24/12 | 07/01/10 12/28/12 | 6/30/12 12/30/13. | Not delegated | Not delegated | Not delegated.
AA/BB | Phosphoric Acid Manufacturing Plants/Phosphate Fertilizers Production Plants | 9/19/11 10/24/12 | 07/01/10 12/28/12 | 6/30/12 12/30/13 | 07/01/13 05/13/14 | 07/01/13 12/10/13 | 07/01/11. 12/22/12.
CC | Petroleum Refineries | 9/19/11 10/24/12 | 07/01/10 12/28/12 | 6/30/12 12/30/13 | 07/01/13 05/13/14 | 07/01/13 12/10/13 | 07/01/11. 12/22/12.
DD | Off-Site Waste and Recovery Operations | 9/19/11 10/24/12 | 07/01/10 12/28/12 | 6/30/12 12/30/13 | 07/01/13 05/13/14 | 07/01/13 12/10/13 | 07/01/11. 12/22/12.
EE | Magnetic Tape Manufacturing Operations | 9/19/11 10/24/12 | 07/01/10 12/28/12 | 6/30/12 12/30/13 | 07/01/13 05/13/14 | 07/01/13 12/10/13 | 07/01/11. 12/22/12.
GG | Aerospace Industry Surface Coating Manufacturing and Rework Facilities | 9/19/11 10/24/12 | 07/01/10 12/28/12 | 6/30/12 12/30/13 | 07/01/13 05/13/14 | 07/01/13 12/10/13 | 07/01/11. 12/22/12.
HH | Oil and Natural Gas Production Facilities | 9/19/11 10/24/12 | 07/01/10 12/28/12 | 6/30/12 12/30/13 | 07/01/13 05/13/14 | 07/01/13 12/10/13 | 07/01/11. 12/22/12.
II | Shipbuilding and Ship Repair (Surface Coating) | 9/19/11 10/24/12 | 07/01/10 12/28/12 | 6/30/12 12/30/13. | Not delegated | Not delegated | Not delegated.
JJ | Wood Furniture Manufacturing Operations | 9/19/11 10/24/12 | 07/01/10 12/28/12 | 6/30/12 12/30/13 | 07/01/13 05/13/14 | 07/01/13 12/10/13 | 07/01/11. 12/22/12.
KK | Printing and Publishing Industry | 9/19/11 10/24/12 | 07/01/10 12/28/12 | 6/30/12 12/30/13 | 07/01/13 05/13/14 | 07/01/13 12/10/13 | 07/01/11. 12/22/12.
LL | Primary Aluminum Reduction Plants | 9/19/11 10/24/12 | 07/01/10 12/28/12 | 6/30/12 12/30/13 | 07/01/13 05/13/14 | 07/01/13 12/10/13 | 07/01/11. 12/22/12.
MM | Chemical Recovery Combustion Sources at Kraft, Soda, Sulfite, and Stand-Along Semichemical Pulp Mills | 9/19/11 10/24/12 | 07/01/10 12/28/12 | 6/30/12 12/30/13 | 07/01/13 05/13/14 | 07/01/13 12/10/13 | 07/01/11. 12/22/12.
OO | Tanks-Level 1 | 9/19/11 10/24/12 | 07/01/10 12/28/12 | 6/30/12 12/30/13 | 07/01/13 05/13/14 | 07/01/13 12/10/13 | 07/01/11. 12/22/12.
PP | Containers | 9/19/11 10/24/12 | 07/01/10 12/28/12 | 6/30/12 12/30/13 | 07/01/13 05/13/14 | 07/01/13 12/10/13 | 07/01/11. 12/22/12.
QQ | Surface Impoundments | 9/19/11 10/24/12 | 07/01/10 12/28/12 | 6/30/12 12/30/13 | 07/01/13 05/13/14 | 07/01/13 12/10/13 | 07/01/11. 12/22/12.
RR | Individual Drain Systems | 9/19/11 10/24/12 | 07/01/10 12/28/12 | 6/30/12 12/30/13 | 07/01/13 05/13/14 | 07/01/13 12/10/13 | 07/01/11. 12/22/12.
SS | Closed Vent Systems, Control Devices, Recovery Devices and Routing to a Fuel Gas System or a Process | 9/19/11 10/24/12 | 07/01/10 12/28/12 | 6/30/12 12/30/13 | 07/01/13 05/13/14 | 07/01/13 12/10/13 | 07/01/11. 12/22/12.
TT | Equipment Leaks—Control Level 1 Standards | 9/19/11 10/24/12 | 07/01/10 12/28/12 | 6/30/12 12/30/13 | 07/01/13 05/13/14 | 07/01/13 12/10/13 | 07/01/11. 12/22/12.
UU | Equipment Leaks—Control Level 2 Standards | 9/19/11 10/24/12 | 07/01/10 12/28/12 | 6/30/12 12/30/13 | 07/01/13 05/13/14 | 07/01/13 12/10/13 | 07/01/11. 12/22/12.
VV | Oil-Water Separators and Organic-Water Separators | 9/19/11 10/24/12 | 07/01/10 12/28/12 | 6/30/12 12/30/13 | 07/01/13 05/13/14 | 07/01/13 12/10/13 | 07/01/11. 12/22/12.
WW | Storage Vessel (Tanks)—Control Level 2 | 9/19/11 10/24/12 | 07/01/10 12/28/12 | 6/30/12 12/30/13 | 07/01/13 05/13/14 | 07/01/13 12/10/13 | 07/01/11. 12/22/12.
XX | Ethylene Manufacturing Process Units: Heat Exchange Systems and Waste Operations | 9/19/11 10/24/12 | 07/01/10 12/28/12 | 6/30/12 12/30/13 | 07/01/13 05/13/14 | 07/01/13 12/10/13 | 07/01/11. 12/22/12.
YY | Generic Maximum Achievable Control Technology Standards | 9/19/11 10/24/12 | 07/01/10 12/28/12 | 6/30/12 12/30/13 | 07/01/13 05/13/14 | 07/01/13 12/10/13 | 07/01/11. 12/22/12.
CCC | Steel Pickling-HCL Process Facilities and Hydrochloric Acid Regeneration Plants | 9/19/11 10/24/12 | 07/01/10 12/28/12 | 6/30/12 12/30/13 | 07/01/13 05/13/14 | 07/01/13 12/10/13 | 07/01/11. 12/22/12.
DDD | Mineral Wool Production | 9/19/11 10/24/12 | 07/01/10 12/28/12 | 6/30/12 12/30/13 | 07/01/13 05/13/14 | 07/01/13 12/10/13 | 07/01/11. 12/22/12.
EEE | Hazardous Waste Combustors | 9/19/11 10/24/12 | 07/01/10 12/28/12 | 6/30/12 12/30/13 | 07/01/13 05/13/14 | 07/01/13 12/10/13 | 07/01/11. 12/22/12.
GGG | Pharmaceutical Production | 9/19/11 10/24/12 | 07/01/10 12/28/12 | 6/30/12 12/30/13 | 07/01/13 05/13/14 | 07/01/13 12/10/13 | 07/01/11. 12/22/12.
HHH | Natural Gas Transmission and Storage Facilities | 9/19/11 10/24/12 | 07/01/10 12/28/12 | 6/30/12 12/30/13 | 07/01/13 05/13/14 | 07/01/13 12/10/13 | 07/01/11. 12/22/12.
III | Flexible Polyurethane Foam Production | 9/19/11 10/24/12 | 07/01/10 12/28/12 | 6/30/12 12/30/13 | 07/01/13 05/13/14 | 07/01/13 12/10/13 | 07/01/11. 12/22/12.
JJJ | Polymers and Resins Group IV | 9/19/11 10/24/12 | 07/01/10 12/28/12 | 6/30/12 12/30/13 | 07/01/13 05/13/14 | 07/01/13 12/10/13 | 07/01/11. 12/22/12.
LLL | Portland Cement Manufacturing Industry | 12/20/06 10/24/12 | 07/01/10 12/28/12 | 6/30/12 12/30/13 | 07/01/13 05/13/14 | 07/01/13 12/10/13 | 07/01/11. 12/22/12.
MMM | Pesticide Active Ingredient Production | 9/19/11 10/24/12 | 07/01/10 12/28/12 | 6/30/12 12/30/13 | 07/01/13 05/13/14 | 07/01/13 12/10/13 | 07/01/11. 12/22/12.
NNN | Wool Fiberglass Manufacturing | 9/19/11 10/24/12 | 07/01/10 12/28/12 | 6/30/12 12/30/13 | 07/01/13 05/13/14 | 07/01/13 12/10/13 | 07/01/11. 12/22/12.
OOO | Manufacture of Amino/Phenolic Resins | 9/19/11 10/24/12 | 07/01/10 12/28/12 | 6/30/12 12/30/13 | 07/01/13 05/13/14 | 07/01/13 12/10/13 | 07/01/11. 12/22/12.
PPP | Polyether Polyols Production | 9/19/11 10/24/12 | 07/01/10 12/28/12 | 6/30/12 12/30/13 | 07/01/13 05/13/14 | 07/01/13 12/10/13 | 07/01/11. 12/22/12.
QQQ | Primary Copper Smelting | 9/19/11 10/24/12 | 07/01/10 12/28/12 | 6/30/12 12/30/13 | Not delegated | 07/01/13 12/10/13. | Not delegated.
RRR | Secondary Aluminum Production | 9/19/11 10/24/12 | 07/01/10 12/28/12 | 6/30/12 12/30/13 | 07/01/13 05/13/14 | 07/01/13 12/10/13 | 07/01/11. 12/22/12.
TTT | Primary Lead Smelting | 9/19/11 10/24/12 | 07/01/10 12/28/12 | 6/30/12 12/30/13 | 07/01/13 05/13/14 | 07/01/13 12/10/13 | 07/01/11. 12/22/12.
UUU | Petroleum Refineries | 9/19/11 10/24/12 | 07/01/10 12/28/12 | 6/30/12 12/30/13 | 07/01/13 05/13/14 | 07/01/13 12/10/13 | 07/01/11. 12/22/12.
VVV | Publicly Owned Treatment Works | 9/19/11 10/24/12 | 07/01/10 12/28/12 | 6/30/12 12/30/13 | 07/01/13 05/13/14 | 07/01/13 12/10/13 | 07/01/11. 12/22/12.
XXX | Ferroalloys Production | 9/19/11 10/24/12 | 07/01/10 12/28/12 | 6/30/12 12/30/13 | 07/01/13 05/13/14 | 07/01/13 12/10/13 | 07/01/11. 12/22/12.
AAAA | Municipal Solid Waste Landfills | 9/19/11 10/24/12 | 07/01/10 12/28/12 | 6/30/12 12/30/13 | 07/01/13 05/13/14 | 07/01/13 12/10/13 | 07/01/11. 12/22/12.
CCCC | Manufacturing of Nutritional Yeast | 9/19/11 10/24/12 | 07/01/10 12/28/12 | 6/30/12 12/30/13 | 07/01/13 05/13/14 | 07/01/13 12/10/13 | 07/01/11. 12/22/12.
DDDD | Plywood and Composite Wood Products | 9/19/11 10/24/12 | 07/01/10 12/28/12 | 6/30/12 12/30/13 | Not delegated | 07/01/13 12/10/13. | Not delegated.
EEEE | Organic Liquids Distribution (Non-Gasoline) | 9/19/11 10/24/12 | 07/01/10 12/28/12 | 6/30/12 12/30/13 | 07/01/13 05/13/14 | 07/01/13 12/10/13 | 07/01/11. 12/22/12.
FFFF | Misc. Organic Chemical Manufacturing | 9/19/11 10/24/12 | 07/01/10 12/28/12 | 6/30/12 12/30/13 | 07/01/13 05/13/14 | 07/01/13 12/10/13 | 07/01/11. 12/22/12.
GGGG | Solvent Extraction for Vegetable Oil Production | 9/19/11 10/24/12 | 07/01/10 12/28/12 | 6/30/12 12/30/13 | 07/01/13 05/13/14 | 07/01/13 12/10/13 | 07/01/11. 12/22/12.
HHHH | Wet Formed Fiberglass Mat Production | 9/19/11 10/24/12 | 07/01/10 12/28/12 | 6/30/12 12/30/13 | 07/01/13 05/13/14 | 07/01/13 12/10/13 | 07/01/11. 12/22/12.
IIII | Surface Coating of Automobiles and Light-Duty Trucks | 9/19/11 10/24/12 | 07/01/10 12/28/12 | 6/30/12 12/30/13 | 07/01/13 05/13/14 | 07/01/13 12/10/13 | 07/01/11. 12/22/12.
JJJJ | Paper and Other Web Coating | 9/19/11 10/24/12 | 07/01/10 12/28/12 | 6/30/12 12/30/13 | 07/01/13 05/13/14 | 07/01/13 12/10/13 | 07/01/11. 12/22/12.
KKKK | Surface Coating of Metal Cans | 9/19/11 10/24/12 | 07/01/10 12/28/12 | 6/30/12 12/30/13 | 07/01/13 05/13/14 | 07/01/13 12/10/13 | 07/01/11. 12/22/12.
MMMM | Surface Coating of Misc. Metal Parts and Products | 9/19/11 10/24/12 | 07/01/10 12/28/12 | 6/30/12 12/30/13 | 07/01/13 05/13/14 | 07/01/13 12/10/13 | 07/01/11. 12/22/12.
NNNN | Surface Coating of Large Appliances | 9/19/11 10/24/12 | 07/01/10 12/28/12 | 6/30/12 12/30/13 | 07/01/13 05/13/14 | 07/01/13 12/10/13 | 07/01/11. 12/22/12.
OOOO | Printing, Coating and Dyeing of Fabrics and Other Textiles | 9/19/11 10/24/12 | 07/01/10 12/28/12 | 6/30/12 12/30/13 | 07/01/13 05/13/14 | 07/01/13 12/10/13 | 07/01/11. 12/22/12.
PPPP | Surface Coating of Plastic Parts and Products | 9/19/11 10/24/12 | 07/01/10 12/28/12 | 6/30/12 12/30/13 | 07/01/13 05/13/14 | 07/01/13 12/10/13 | 07/01/11. 12/22/12.
QQQQ | Surface Coating of Wood Building Products | 9/19/11 10/24/12 | 07/01/10 12/28/12 | 6/30/12 12/30/13 | 07/01/13 05/13/14 | 07/01/13 12/10/13 | 07/01/11. 12/22/12.
RRRR | Surface Coating of Metal Furniture | 9/19/11 10/24/12 | 07/01/10 12/28/12 | 6/30/12 12/30/13 | 07/01/13 05/13/14 | 07/01/13 12/10/13 | 07/01/11. 12/22/12.
SSSS | Surface Coating of Metal Coil | 9/19/11 10/24/12 | 07/01/10 12/28/12 | 6/30/12 12/30/13 | 07/01/13 05/13/14 | 07/01/13 12/10/13 | 07/01/11. 12/22/12.
TTTT | Leather Finishing Operations | 9/19/11 10/24/12 | 07/01/10 12/28/12 | 6/30/12 12/30/13 | 07/01/13 05/13/14 | 07/01/13 12/10/13 | 07/01/11. 12/22/12.
UUUU | Cellulose Products Manufacturing | 9/19/11 10/24/12 | 07/01/10 12/28/12 | 6/30/12 12/30/13 | 07/01/13 05/13/14 | 07/01/13 12/10/13 | 07/01/11. 12/22/12.
VVVV | Boat Manufacturing | 9/19/11 10/24/12 | 07/01/10 12/28/12 | 6/30/12 12/30/13 | 07/01/13 05/13/14 | 07/01/13 12/10/13 | 07/01/11. 12/22/12.
WWWW | Reinforced Plastic Composites Production | 9/19/11 10/24/12 | 07/01/10 12/28/12 | 6/30/12 12/30/13 | 07/01/13 05/13/14 | 07/01/13 12/10/13 | 07/01/11. 12/22/12.
XXXX | Rubber Tire Manufacturing | 9/19/11 10/24/12 | 07/01/10 12/28/12 | 6/30/12 12/30/13 | 07/01/13 05/13/14 | 07/01/13 12/10/13 | 07/01/11. 12/22/12.
YYYY | Stationary Combustion Turbines | 9/19/11 10/24/12 | 07/01/10 12/28/12 | 6/30/12 12/30/13 | 07/01/13 05/13/14 | 07/01/13 12/10/13 | 07/01/11. 12/22/12.
ZZZZ | Stationary Reciprocating Internal Combustion Engines | 01/30/13 10/23/13 | 7/1/09 12/28/12 | 6/30/12 12/30/13 | 07/01/13 05/13/14 | 07/01/13 12/10/13 | 07/01/11. 12/22/12.
AAAAA | Lime Manufacturing Plants | 9/19/11 10/24/12 | 07/01/10 12/28/12 | 6/30/12 12/30/13 | 07/01/13 05/13/14 | 07/01/13 12/10/13 | 07/01/11. 12/22/12.
BBBBB | Semiconductor Manufacturing | 9/19/11 10/24/12 | 07/01/10 12/28/12 | 6/30/12 12/30/13 | Not delegated | 07/01/13 12/10/13. | Not delegated.
CCCCC | Coke Ovens: Pushing, Quenching, and Battery Stacks | 9/19/11 10/24/12 | 07/01/10 12/28/12 | 6/30/12 12/30/13 | Not delegated | 07/01/13 12/10/13 | Not delegated.
DDDDD | Industrial, Commercial and Institutional Boilers and Process Heaters | Not delegated | Not delegated | 6/30/12 12/30/13 | 07/01/13 05/13/14 | 07/01/13 12/10/13 | Not delegated.
EEEEE | Iron and Steel Foundries | 9/19/11 10/24/12 | 07/01/10 12/28/12 | 6/30/12 12/30/13 | 07/01/13 05/13/14 | 07/01/13 12/10/13 | 07/01/11. 12/22/12.
FFFFF | Integrated Iron and Steel Manufacturing Facilities | 9/19/11 10/24/12 | 07/01/10 12/28/12 | 6/30/12 12/30/13 | 07/01/13 05/13/14 | 07/01/13 12/10/13 | 07/01/11. 12/22/12.
GGGGG | Site Remediation | 9/19/11 10/24/12 | 07/01/10 12/28/12 | 6/30/12 12/30/13 | 07/01/13 05/13/14 | 07/01/13 12/10/13 | 07/01/11. 12/22/12.
HHHHH | Misc. Coating Manufacturing | 9/19/11 10/24/12 | 07/01/10 12/28/12 | 6/30/12 12/30/13 | 07/01/13 05/13/14 | 07/01/13 12/10/13 | 07/01/11. 12/22/12.
IIIII | Mercury Cell Chlor-Alkali Plants | 9/19/11 10/24/12 | 07/01/10 12/28/12 | 6/30/12 12/30/13 | Not delegated | 07/01/13 12/10/13. | Not delegated.
JJJJJ | Brick and Structural Clay Products Manufacturing | Not delegated | Not delegated | Not delegated | Not delegated | 07/01/13 12/10/13. | Not delegated.
KKKKK | Clay Ceramics Manufacturing | 9/19/11 10/24/12 | Not delegated | Not delegated | Not delegated | 07/01/13 12/10/13. | Not delegated.
LLLLL | Asphalt Processing and Asphalt Roofing Manufacturing | 9/19/11 10/24/12 | 07/01/10 12/28/12 | 6/30/12 12/30/13 | 07/01/13 05/13/14 | 07/01/13 12/10/13 | 07/01/11. 12/22/12.
MMMMM | Flexible Poly-urethane Foam Fabrication Operation | 9/19/11 10/24/12 | 07/01/10 12/28/12 | 6/30/12 12/30/13 | 07/01/13 05/13/14 | 07/01/13 12/10/13 | 07/01/11. 12/22/12.
NNNNN | Hydrochloric Acid Production | 9/19/11 10/24/12 | 07/01/10 12/28/12 | 6/30/12 12/30/13 | 07/01/13 05/13/14 | 07/01/13 12/10/13 | 07/01/11. 12/22/12.
PPPPP | Engine Test Cells/Stands | 9/19/11 10/24/12 | 07/01/10 12/28/12 | 6/30/12 12/30/13 | 07/01/13 05/13/14 | 07/01/13 12/10/13 | 07/01/11. 12/22/12.
QQQQQ | Friction Materials Manufacturing Facilities | 9/19/11 10/24/12 | 07/01/10 12/28/12 | 6/30/12 12/30/13 | Not delegated | 07/01/13 12/10/13. | Not delegated.
RRRRR | Taconite Iron Ore Processing | 9/19/11 10/24/12 | 07/01/10 12/28/12 | 6/30/12 12/30/13 | Not delegated | 07/01/13 12/10/13. | Not delegated.
SSSSS | Refractory Products Manufacturing | 9/19/11 10/24/12 | 07/01/10 12/28/12 | 6/30/12 12/30/13 | 07/01/13 05/13/14 | 07/01/13 12/10/13 | 07/01/11. 12/22/12.
TTTTT | Primary Magnesium Refining | 9/19/11 10/24/12 | 07/01/10 12/28/12 | 6/30/12 12/30/13 | Not delegated | 07/01/13 12/10/13 | Not delegated.
UUUUU | Coal and Oil-fired Electric Utility Steam Generating Units | Not delegated | 07/01/10 12/28/12 | 6/30/12 12/30/13 | 07/01/13 05/13/14 | 07/01/13 12/10/13. | Not delegated.
WWWWW | Hospital Ethylene Oxide Sterilizer | 9/19/11 10/24/12 | 07/01/10 12/28/12 | 6/30/12 12/30/13 | 07/01/13 05/13/14 | 07/01/13 12/10/13 | 07/01/11. 12/22/12.
YYYYY | Electric Arc Furnace Steelmaking Facilities or Stainless and Non-stainless Steel Manufacturing (EAFs) | 9/19/11 10/24/12 | 07/01/10 12/28/12 | 6/30/12 12/30/13 | 07/01/13 05/13/14 | 07/01/13 12/10/13 | 07/01/11. 12/22/12.
ZZZZZ | Iron and Steel Foundries Area Sources | 9/19/11 10/24/12 | 07/01/10 12/28/12 | 6/30/12 12/30/13 | 07/01/13 05/13/14 | 07/01/13 12/10/13 | 07/01/11. 12/22/12.
BBBBBB | Gasoline Distribution Bulk Terminal, Bulk Plant and Pipeline Facilities | 9/19/11 10/24/12 | 07/01/10 12/28/12 | 6/30/12 12/30/13 | 07/01/13 05/13/14 | 07/01/13 12/10/13 | 07/01/11. 12/22/12.
CCCCCC | Gasoline Distribution, Gasoline Dispensing Facilities | 1/24/11 10/24/12 | 07/01/10 12/28/12 | 6/30/12 12/30/13 | 07/01/13 05/13/14 | 07/01/13 12/10/13 | 07/01/11. 12/22/12.
DDDDDD | PVC & Copolymer Production | Not delegated | 07/01/10 12/28/12 | 6/30/12 12/30/13 | 07/01/13 05/13/14 | 07/01/13 12/10/13 | 07/01/11. 12/22/12.
EEEEEE | Primary Copper Smelting | Not delegated | 07/01/10 12/28/12 | 6/30/12 12/30/13 | 07/01/13 05/13/14 | 07/01/13 12/10/13 | 07/01/11. 12/22/12.
FFFFFF | Secondary Copper Smelting | Not delegated | 07/01/10 12/28/12 | 6/30/12 12/30/13 | 07/01/13 05/13/14 | 07/01/13 12/10/13 | 07/01/11. 12/22/12.
GGGGGG | Primary Nonferrous Metal | Not delegated | 07/01/10 12/28/12 | 6/30/12 12/30/13 | 07/01/13 05/13/14 | 07/01/13 12/10/13 | 07/01/11. 12/22/12.
HHHHHH | Paint Stripping Operations, Misc. Surface Coating, Autobody Refinishing | 9/19/11 10/24/12 | 07/01/10 12/28/12 | 6/30/12 12/30/13 | 07/01/13 05/13/14 | 07/01/13 12/10/13 | 07/01/11. 12/22/12.
JJJJJJ | Industrial, Commercial, and Institutional Boilers | Not delegated | 07/01/10 12/28/12 | 6/30/12 12/30/13 | 07/01/13 05/13/14 | 07/01/13 12/10/13. | Not delegated.
LLLLLL | Acrylic/Modacrylic Fibers Production | 9/19/11 10/24/12 | 07/01/10 12/28/12 | 6/30/12 12/30/13 | 07/01/13 05/13/14 | 07/01/13 12/10/13. | Not delegated.
MMMMMM | Carbon Black Production | 9/19/11 10/24/12 | 07/01/10 12/28/12 | 6/30/12 12/30/13 | 07/01/13 05/13/14 | 07/01/13 12/10/13. | Not delegated.
NNNNNN | Chromium Compounds | 9/19/11 10/24/12 | 07/01/10 12/28/12 | 6/30/12 12/30/13 | 07/01/13 05/13/14 | 07/01/13 12/10/13, | Not delegated.
OOOOOO | Flexible Polyurethane Foam Fabrication and Production | 9/19/11 10/24/12 | 07/01/10 12/28/12 | 6/30/12 12/30/13 | 07/01/13 05/13/14 | 07/01/13 12/10/13. | Not delegated.
PPPPPP | Lead Acid Battery Manufacturing | 9/19/11 10/24/12 | 07/01/10 12/28/12 | 6/30/12 12/30/13 | 07/01/13 05/13/14 | 07/01/13 12/10/13. | Not delegated.
QQQQQQ | Wood Preserving | 9/19/11 10/24/12 | 07/01/10 12/28/12 | 6/30/12 12/30/13 | 07/01/13 05/13/14 | 07/01/13 12/10/13. | Not delegated.
RRRRRR | Clay Ceramics Manufacturing | 9/19/11 10/24/12 | 07/01/10 12/28/12 | 6/30/12 12/30/13 | 07/01/13 05/13/14 | 07/01/13 12/10/13 | 07/01/11. 12/22/12.
SSSSSS | Pressed & Blown Glass Manufacturing | 9/19/11 10/24/12 | 07/01/10 12/28/12 | 6/30/12 12/30/13 | 07/01/13 05/13/14 | 07/01/13 12/10/13 | 07/01/11. 12/22/12.
TTTTTT | Secondary Non-Ferrous Metals | 9/19/11 10/24/12 | 07/01/10 12/28/12 | 6/30/12 12/30/13 | 07/01/13 05/13/14 | 07/01/13 12/10/13 | 07/01/11. 12/22/12.
VVVVVV | Chemical Manufacturing Area Sources | 12/21/12 09/10/14 | 07/01/10 12/28/12 | 6/30/12 12/30/13 | 07/01/13 05/13/14 | 07/01/13 12/10/13. | Not delegated.
WWWWWW | Plating and Polishing | 9/19/11 10/24/12 | 07/01/10 12/28/12 | 6/30/12 12/30/13 | 07/01/13 05/13/14 | 07/01/13 12/10/13. | Not delegated.
XXXXXX | Metal Fabrication and Finishing | 9/19/11 10/24/12 | 07/01/10 12/28/12 | 6/30/12 12/30/13 | 07/01/13 05/13/14 | 07/01/13 12/10/13. | Not delegated.
YYYYYY | Ferroalloys Production | Not delegated | 07/01/10 12/28/12 | 6/30/12 12/30/13 | 07/01/13 05/13/14 | 07/01/13 12/10/13. | Not delegated.
ZZZZZZ | Area Source Standards for Aluminum, Copper and Other Nonferrous Foundries | 6/28/11 1/24/11 | 07/01/10 12/28/12 | 6/30/12 12/30/13 | 07/01/13 05/13/14 | 07/01/13 12/10/13. | Not delegated.
AAAAAAA | Asphalt Processing and Asphalt Roofing Manufacturing | Not delegated | 07/01/10 12/28/12 | 6/30/12 12/30/13 | 07/01/13 05/13/14 | 07/01/13 12/10/13. | Not delegated.
BBBBBBB | Chemical Preparations Industry | Not delegated | 07/01/10 12/28/12 | 6/30/12 12/30/13 | 07/01/13 05/13/14 | 07/01/13 12/10/13. | Not delegated.
CCCCCCC | Paints and Allied Products Manufacturing | 6/28/11 1/24/11 | 07/01/10 12/28/12 | 6/30/12 12/30/13 | 07/01/13 05/13/14 | 07/01/13 12/10/13. | Not delegated.
DDDDDDD | Prepared Foods Manufacturing | 12/23/11 09/10/14 | 07/01/10 12/28/12 | 6/30/12 12/30/13 | 07/01/13 05/13/14 | 07/01/13 12/10/13. | Not delegated.
EEEEEEE | Gold Mine Ore Processing and Production Area Source Category | Not delegated | 07/01/10 12/28/12 | 6/30/12 12/30/13 | 07/01/13 05/13/14 | 07/01/13 12/10/13. | Not delegated.
HHHHHHH | Polyvinyl Chloride and Copolymers Production | Not delegated |  | 6/30/12 12/30/13 | 07/01/13 05/13/14 | 07/01/13 12/10/13. | Not delegated.

Note: At this time, Missouri is temporarily not accepting delegation for area source NESHAP requirements (40 CFR part 63, subparts 5W-7H) within the State of Missouri as described in an August 24, 2010 letter from MDNR to the U.S. EPA, Region 7.

Summary of This Action

All sources subject to the requirements of 40 CFR parts 60, 61, and 63 are also subject to the equivalent requirements of the above-mentioned state or local agencies.

This document informs the public of delegations to the above-mentioned agencies of the above-referenced Federal regulations.

Authority

This document is issued under the authority of sections 101, 110, 112, and 301 of the CAA, as amended (42 U.S.C. 7401, 7410, 7412, and 7601).

Dated: February 13, 2015.
Karl Brooks,
Regional Administrator, Region 7.

[FR Doc. 2015-04171 Filed 2-26-15; 8:45 am]

BILLING CODE 6560-50-P